DEPARTMENT OF THE INTERIOR

National Park Service

Notice of Inventory Completion for Native American Human Remains and Associated Funerary Objects in the Possession of the Nevada State Museum, Carson City, NV

AGENCY: National Park Service, Interior.

ACTION: Notice.

Notice is hereby given in accordance with provisions of the Native American Graves Protection and Repatriation Act (NAGPRA), 43 CFR 10.9, of the completion of an inventory of human remains and associated funerary objects in the possession of the Nevada State Museum, Carson City, NV.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Nevada State Museum professional staff in consultation with representatives of the Fallon Paiute-Shoshone Tribe.

In 1940, human remains representing two individuals were removed by unknown persons from a location 1.25 miles west of Harmon Reservoir, Churchill County, NV. At an unknown date after 1940, the remains were donated to the Nevada State Museum by an unknown person. No known individuals were identified. No associated funerary objects are present.

Osteological evidence indicates that these human remains are Native American. A characteristic tooth wear pattern indicates that the human remains date to post-1850, the first year for Euroamerican contact in the Nevada region. Historic documents, ethnographic sources, and oral history indicate that the Paiute people have occupied this area since pre-contact times. Based on the osteological, historical, ethnographic, and oral history, these human remains are determined to be affiliated with the Fallon Paiute-Shoshone Tribe.

Based on the above-mentioned information, officials of the Nevada State Museum have determined that, pursuant to 43 CFR 10.2(d)(1), the human remains listed above represent the physical remains of one individual of Native American ancestry. Officials of the Nevada State Museum also have determined that, pursuant to 43 CFR 10.2(e), there is a relationship of shared group identity that can be reasonably traced between these Native American human remains and the Fallon Paiute-Shoshone Tribe.

This notice has been sent to officials of the Fallon Paiute-Shoshone Tribe. Representatives of any other Indian tribe that believes itself to be culturally affiliated with these human remains should contact Dr. Alanah Woody, Nevada Division of Museums and History NAGPRA Coordinator, 600 North Carson Street, Carson City, NV 89701, telephone (775) 687-4810, extension 229, before May 14, 2001. Repatriation of the human remains to the Fallon Paiute-Shoshone Tribe may begin after that date if no additional claimants come forward.

Dated: March 28, 2001.
John Robbins,
Assistant Director, Cultural Resources Stewardship and Partnerships.

[FR Doc. 01-8991 Filed 4-11-01; 8:45 am]

BILLING CODE 4310-70-F